DEPARTMENT OF ENERGY

Office of Los Alamos Site Operations, National Nuclear Security Administration; Notice of Floodplain Involvement for the Proposed Access Control and Traffic Improvements at Los Alamos National Laboratory, Los Alamos, NM

AGENCY: National Nuclear Security Administration, Office of Los Alamos Site Operations, DOE.

ACTION: Notice of floodplain involvement.

SUMMARY: The Department of Energy (DOE), National Nuclear Security Administration (NNSA), Office of Los Alamos Site Operations proposes to construct and operate access control and traffic improvement measures at Los Alamos National Laboratory (LANL) that would include construction and demolition activities and soil disturbance. The proposed action would include the construction and operation of four access control stations within Technical Areas (TAs) 3, 36, 61 and 48; the closure of four streets leading into TA-3 from West Jemez Road; the construction and operation of two, short by-pass roads around the core portion of TA-3; and intersection improvements at two street intersections located within the core portion of TA-3. Some of the action would occur near canyons with floodplains and wetlands; however, canyons would be bridged over from either side of the canyons and few construction-related activities would take place within the floodplains along the canyon bottoms. Direct and indirect effects to floodplains and wetlands nearby would be minimal. In accordance with 10 CFR Part 1022, DOE has prepared a floodplain/wetland assessment and will perform this proposed action in a manner so as to avoid or minimize potential harm to or within the affected floodplain.

DATES: Comments are due to the address below no later than September 16, 2002.

ADDRESSES: Written comments should be addressed to: Elizabeth Withers, Department of Energy, National Nuclear Security Administration, Los Alamos Site Office, 528 35th Street, Los Alamos, NM 87544, or submit them to the Mail Room at the above address between the hours of 8 a.m. and 4:30 p.m., Monday through Friday. Written comments may also be sent electronically to: ewithers@doeal.gov or by facsimile to (505) 667-9998.

FOR FURTHER INFORMATION CONTACT: Lloyd Smith, Department of Energy, National Nuclear Security Administration, Los Alamos Site Office, 528 35th Street, Los Alamos, NM 87544. Telephone (505) 667-4325, facsimile (505) 667-9998.

For Further Information on General DOE Floodplain Environmental Review Requirements, contact: Carol M. Borgstrom, Director, Office of NEPA Policy and Compliance, EH-42, Department of Energy, 100 Independence Avenue, SW., Washington, DC 20585-0119. Telephone (202) 586-4600 or (800) 472-2756, facsimile (202) 586-7031.

SUPPLEMENTARY INFORMATION: NNSA is proposing to improve its capability to meet physical security requirements at LANL by establishing a permanent physical security framework at LANL. Additionally, NNSA also is proposing to improve its street intersections at two locations within LANL to facilitate traffic safety. To meet the needs of the daily DOE and NNSA imposed security conditions at LANL, NNSA is proposing to construct and operate four access control stations and support structures within Technical Areas (TAs) 3, 36, 61 and 48; to construct and operate two, short by-pass roads around the core portion of TA-3; and to close four streets leading into TA-3 from West Jemez Road to vehicle traffic. Additionally, NNSA would also make intersection improvements at two street intersections located within the core portion of TA-3; construct two additional new parking areas and two, short access roads to existing parking lots; and construct a new Radio Shop to replace the existing building, which would have to be demolished to facilitate the construction of the new roadway at the east side of TA-3. Various additional structure would need to be removed, relocated or demolished; these would mostly be non-permanent buildings, with the exception of the aforementioned Radio Shop and the high bay portion of Building 3-40, which would likely need to be demolished as well. Most of the activities would take place along the mesa tops and not within floodplains; no activities are planned to occur in wetlands. Best management practices would be installed to control erosion and storm water runoff. Bridges would be constructed to span over canyons and floodplains.

In accordance with DOE regulations for compliance with floodplain and wetlands environmental review requirements (10 CFR Part 1022), NNSA has prepared a floodplain/wetland assessment for this action, which is part of the NEPA EA. The EA (containing the floodplain/wetland assessment) is available by contacting Elizabeth Withers at the previously identified addresses, phone and facsimile numbers. The EA (containing the floodplain/wetland assessment) is also available for review at the DOE Reading Room at the Los Alamos Outreach Center, 1619 Central Avenue, Los Alamos, NM 87544; and the DOE Reading Room at the Zimmerman Library, University of New Mexico, Albuquerque, NM 87131. The NNSA will publish a floodplain statement of findings for this project in the Federal Register no sooner than September 16, 2002.

Issued in Los Alamos, NM on August 23, 2002.
Ralph E. Erickson,
Director, U.S. Department of Energy, National Nuclear Security Administration, Los Alamos Site Office.

BILLING CODE 6450-01-P

[FR Doc. 02-22184 Filed 8-29-02; 8:45 am]

BILLING CODE 6450-01-C